DEPARTMENT OF AGRICULTURE

Forest Service

Availability of an Environmental Assessment, Decision Notice, and Finding of No Significant Impact for An Amendment to the Hoosier National Forest Land and Resource Management Plan; Brown, Crawford, Jackson, Lawrence, Martin, Orange, and Perry Counties, Indiana

AGENCY: Forest Service, USDA.

ACTION: Notice of Availability of an environmental assessment.

SUMMARY: On November 22, 2000, Hoosier National Forest Supervisor, Kenneth G. Day (Responsible Official) decided to amend the 1991 Hoosier National Forest Land and Resource Management Plan (Forest Plan). Copies of the Environmental Assessment, Plan Amendment pages, Decision Notice, and Finding of No Significant Impact, are available upon request. This amendment modifies the boundaries of the existing Management Area 8.2 special areas, makes a decision on the final allocation of the Management Area 9.2 proposed special areas, and allocates five new areas identified since the signing of the Forest Plan for special area status. The boundaries incorporate all of the special features responsible for designating the area as a special area and provides for protection of these special features. This notice is provided pursuant to National Forest System Land and Resource Management Planning regulations (36 CFR 219.35, 65 FR 67579, November 9, 2000).

DATES: On November 22, 2000, Hoosier National Forest Supervisor, Kenneth G. Day (Responsible Official) decided to amend the 1991 Hoosier National Forest Land and Resource Management Plan (Forest Plan). A legal notice was published in the Sunday Herald-Times, Bloomington, Indiana newspaper in accordance with 36 CFR 217.8(a)(2) on November 26, 2000.

ADDRESSES: Send requests for documents to: Forest Supervisor, Hoosier National Forest, 811 Constitution Avenue, Bedord, IN 47421.

Alternatively, direct electronic mail to: “r9 hoosier website”@fs.fed.us ATTN: Plan Amendment.

FOR FURTHER INFORMATION CONTACT: Regis Terney, Forest Planner, at 812-275-5987. TDD 812-275-7817; or direct electronic mail to: “r9 hoosier website”@fs.fed.us, or access the forest web page at www.fs.fed.us/r9/hoosier.

Responsible Official: Kenneth G. Day, Forest Supervisor, 811 Constitution Avenue, Bedford, Indiana, 47421.

SUPPLEMENTARY INFORMATION: These special areas are located throughout the Hoosier National Forest on about 17,500 acres of National Forest System land. The boundaries incorporate all of the special features responsible for designating the area as a special area and provides for protection of these special features. Boundaries are designed to be easily recognizable by using physical features on the ground such as roads, ridges, and creeks. This is a non-significant amendment.

Public involvement was an important part of the decision making process for this proposal. On November 6, 1997, we started scoping with mailing of letters to interested parties and the mailing of a news release to newspaper, television, and radio news organizations. We requested that people send their comments on the scoping proposal to our office by December 6, 1997. A second round of public involvement occurred with the issuance of the pre-decisional environmental assessment on February 27, 2000. We published a legal notice notifying the public of the availability of the EA for review in the Sunday Herald-Times, Bloomington, Indiana on February 27, 2000, and the Perry County News, Tell City, Indiana on February 28, 2000. A 30-day formal comment period followed release of the predecisional EA on February 27, 2000 for review (until March 28, 2000).

This decision is subject to appeal pursuant to USDA Forest Service regulations 36 CFR 217.3. Any written appeal must be postmarked or submitted to the Regional Forester, USDA Forest Service, Eastern Region, 310 West Wisconsin Ave., Suite 500, Milwaukee, WI 53203, within 45 days of the date of the legal notice was published in the Sunday Herald-Times, Bloomington, Indiana in accordance with 36 CFR 217.8(a)(2). The appeal period begins the day following the legal notice publication in the Sunday Herald-Times. Appeals must meet the content requirements of 36 CFR 217.9. The Forest Service is an equal opportunity organization.

Dated: December 7, 2000.
Kenneth G. Day,
Forest Supervisor.

[FR Doc. 00-31983 Filed 12-14-00; 8:45 am]

BILLING CODE 3410-11-M